DEPARTMENT OF ENERGY

Federal Energy Regulatory Commission

[Project No. 14623-001]

Advanced Hydropower, Inc.; Notice of Surrender of Preliminary Permit

Take notice that Advanced Hydropower, Inc., permittee for the proposed Macon County Hydropower Project, filed a letter on March 9, 2016, requesting that its preliminary permit be surrendered. The permit was issued on January 23, 2015, and would have expired on December 31 2017.¹ The project would have been located on the Cullasaja River, in Macon County, North Carolina.

¹ 150 FERC ¶ 62,064 (2015).

The preliminary permit for Project No. 14623 will remain in effect until the close of business, April 13, 2016. But, if the Commission is closed on this day, then the permit remains in effect until the close of business on the next day in which the Commission is open.² New applications for this site may not be submitted until after the permit surrender is effective.

² 18 CFR 385.2007(a)(2) (2015).

Dated: March 14, 2016.
Nathaniel J. Davis, Sr.,
Deputy Secretary.

[FR Doc. 2016-06287 Filed 3-18-16; 8:45 am]

BILLING CODE 6717-01-P